AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before April 25, 2006.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION: OMB No.: OMB 0412-0557.

Form No.: N/A.

Title: Annual Results Report.

Type of Review: Renewal of Information Collection.

Purpose: The Annual Results Report provides meaningful results-oriented information to assist Cooperating Sponsors, USAID Missions and USAID's Office of Food for Peace to demonstrate the impact of food aid on food security. The report serves as an important information source during preparation of Fiscal Year Annual updates prepared by Cooperating Sponsors, new development activity proposals, Agency Results, Review and Resource Requests, and USAID's annual report to Congress. The Annual Results Report focuses on performance indicators for food aid activity and progress toward achievement of results. The report also includes a summary of anticipated resource requests for the next Fiscal Year.

Annual Reporting Burden:

Respondents: 20.

Total annual responses: 20.

Total annual hours requested: 480.

Dated: February 15, 2006.
Joanne Paskar,
Chief, Information and Records Division, Office of Administrative Services, Bureau of Management.

[FR Doc. 06-1724 Filed 2-23-06; 8:45 am]

BILLING CODE 6116-01-M